Proclamation 8983 of May 17, 2013

World Trade Week, 2013

By the President of the United States of America

A Proclamation

As a Nation, we need to do everything we can to create good, middle-class jobs right here in America. And one of the best ways we can do that is by boosting manufacturing and expanding trade that allows us to sell more of our goods and services all around the world. We have made important progress toward meeting that goal under our National Export Initiative, and we are taking historic steps to help our businesses access new markets abroad. But we cannot stop there. We need to keep making the investments in commerce and infrastructure that drive our economic growth and bring more Americans into a thriving middle class.

We can start by modernizing our roads, bridges, and ports. These upgrades would allow American companies to ship their goods faster and cheaper, and they would encourage businesses worldwide to set up shop here and bring more jobs to our shores. So earlier this year, I proposed the Partnership to Rebuild America—a collaboration between the private and public sectors to break ground on our most pressing infrastructure projects.

In the past 4 years, we have focused on opening up growing markets for our businesses through historic trade agreements and enforcing trade rights so American workers can compete on a level playing field. To build on that progress, we are joining nations in Asia and the Americas to negotiate a new, high-standard trade agreement: the Trans-Pacific Partnership. Once realized, the deal would boost our exports, support American jobs, and help our companies succeed in the global marketplace. And to ramp up trade with Europe, we also plan to launch talks for a Transatlantic Trade and Investment Partnership with the European Union.

My Administration is committed to expanding international commerce that creates jobs and grows our economy. During World Trade Week, we recognize workers, growers, and entrepreneurs nationwide who share that ambition, and we rededicate ourselves to advancing it in the year ahead.

NOW, THEREFORE, I, BARACK OBAMA, President of the United States of America, by virtue of the authority vested in me by the Constitution and the laws of the United States, do hereby proclaim May 19 through May 25, 2013, as World Trade Week. I encourage all Americans to observe this week with events, trade shows, and educational programs that celebrate and inform Americans about the benefits of trade to our Nation and the global economy.

IN WITNESS WHEREOF, I have hereunto set my hand this seventeenth day of May, in the year of our Lord two thousand thirteen, and of the Independence of the United States of America the two hundred and thirty-seventh.

[FR Doc. 2013-12401

Filed 5-21-13; 11:15 am]

Billing code 3295-F3